SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: September 1-30, 2017.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals by Rule Issued Under 18 CFR 806.22(e)

1. Rutter Bros. Dairy, Inc., d/b/a Rutter's Dairy, Inc., ABR-201709007, Manchester Township, York County, Pa.; Consumptive Use of Up to 0.0400 mgd; Approval Date: September 29, 2017.

Approvals by Rule Issued Under 18 CFR 806.22(f)

1. Inflection Energy (PA), LLC, Pad ID: Fox B Well Site, ABR-201709001, Shrewsbury Township, Lycoming County, Pa.; Consumptive Use of Up to 4.0000 mgd; Approval Date: September 7, 2017.

2. Chesapeake Appalachia, LLC, Pad ID: Shumhurst2, ABR-201709002, Tuscarora Township, Bradford County, Pa.; Consumptive Use of Up to 7.5000 mgd; Approval Date: September 14, 2017.

3. Cabot Oil & Gas Corporation, Pad ID: Precision Capital LP P1, ABR-201709003, Lathrop Township, Susquehanna County, Pa.; Consumptive Use of Up to 5.0000 mgd; Approval Date: September 18, 2017.

4. Cabot Oil & Gas Corporation, Pad ID: PennayG P1, ABR-201709004, Brooklyn Township, Susquehanna County, Pa.; Consumptive Use of Up to 5.0000 mgd; Approval Date: September 18, 2017.

5. Chesapeake Appalachia, LLC, Pad ID: Rosiemar, ABR-201301016.R1, Auburn Township, Susquehanna County, Pa.; Consumptive Use of Up to 7.5000 mgd; Approval Date: September 18, 2017.

6. EOG Resources, Inc., Pad ID: WARD B Pad, ABR-201210009.R1, Springfield Township, Bradford County, Pa.; Consumptive Use of Up to 5.0000 mgd; Approval Date: September 25, 2017.

7. EOG Resources, Inc., Pad ID: KLINE A Pad, ABR-201210010.R1, Springfield Township, Bradford County, Pa.; Consumptive Use of Up to 5.0000 mgd; Approval Date: September 25, 2017.

8. EOG Resources, Inc., Pad ID: GRIPPIN A Pad, ABR-201210015.R1, Springfield Township, Bradford County, Pa.; Consumptive Use of Up to 5.0000 mgd; Approval Date: September 25, 2017.

9. EOG Resources, Inc., Pad ID: KINGSLY E Pad, ABR-201210016.R1, Springfield Township, Bradford County, Pa.; Consumptive Use of Up to 5.0000 mgd; Approval Date: September 25, 2017.

10. Pennsylvania General Energy Company, LLC, Pad ID: COP Tract 322 Pad A, ABR-201301004.R1, McHenry and Cummings Townships, Lycoming County, Pa.; Consumptive Use of Up to 3.5000 mgd; Approval Date: September 25, 2017.

11. Pennsylvania General Energy Company, LLC, Pad ID: COP Tract 322 Pad B, ABR-201301005.R1, McHenry and Cummings Townships, Lycoming County, Pa.; Consumptive Use of Up to 3.5000 mgd; Approval Date: September 25, 2017.

12. ARD Operating, LLC, Pad ID: Mountain Meadow Lodge Pad B, ABR-201709005, McIntyre Township, Lycoming County, Pa.; Consumptive Use of Up to 4.0000 mgd; Approval Date: September 28, 2017.

13. ARD Operating, LLC, Pad ID: Mountain Meadow Lodge Pad A, ABR-201709006, McIntyre Township, Lycoming County, Pa.; Consumptive Use of Up to 4.0000 mgd; Approval Date: September 28, 2017.

14. EOG Resources, Inc., Pad ID: KLINE B Pad, ABR-201210011.R1, Springfield Township, Bradford County, Pa.; Consumptive Use of Up to 5.0000 mgd; Approval Date: September 29, 2017.

Authority: Pub. L. 91-575, 84 Stat. 1509 et seq., 18 CFR parts 806, 807, and 808.

Dated: October 30, 2017.
Stephanie L. Richardson,
Secretary to the Commission.

[FR Doc. 2017-23886 Filed 11-1-17; 8:45 am]

BILLING CODE 7040-01-P